DEPARTMENT OF AGRICULTURE

Farm Service Agency

Commodity Credit Corporation

Request for Extension and Revision of a Currently Approved Information Collection; Payment Eligibility and Payment Limitation Determinations Under the Noninsured Crop Disaster Assistance Program

AGENCIES: Farm Service Agency and the Commodity Credit Corporation, USDA.

ACTION: Notice and request for comments.

SUMMARY: In accordance with the Paperwork Reduction Act of 1995, this notice announces the intention of the Farm Service Agency (FSA) and the Commodity Credit Corporation (CCC) to request an extension and revision of a currently approved information collection. This information collection is used to support payment eligibility and payment limitation determinations for multiple programs including the Conservation Reserve Program, Price Support Programs, the Direct and Counter-Cyclical Program authorized by the Farm Security and Rural Investment Act of 2002, and the Noninsured Crop Disaster Assistance Program.

DATES: Comments on this notice must be received on or before December 30, 2005 to be assured consideration. Comments received after that date will be considered to the extent practicable.

ADDRESSES: Comments concerning this notice should be addressed to Farm Service Agency, Attn: James Baxa, Program Manager, Production, Emergencies, and Compliance Division, Farms Service Agency, United States Department of Agriculture, STOP 0517, Room 4752, South Building, 1400 Independence Avenue, SW., Washington, DC 20250-0517. Comments also may be submitted via facsimile to (202) 720-4941 or by e-mail to james.baxa@wdc.usda.gov.

FOR FURTHER INFORMATION CONTACT: James Baxa, Program Manager at (202) 720-9882, or Diane Sharp, Director of Production, Emergencies, and Compliance Division at (202) 720-7641.

SUPPLEMENTARY INFORMATION:

Title: Payment Eligibility and Payment Limitation Determinations under the Noninsured Crop Disaster Assistance Program.

OMB Control Number: 0560-0096.

Expiration Date of Approval: November 30, 2006.

Type of Request: Extension and Revision of a Currently Approved Information Collection.

Abstract: The collection of information is necessary to determine the eligibility of individuals and entities as defined at 7 CFR part 1400 for payment eligibility and payment limitation in multiple programs including the Conservation Reserve Program, the Price Support Programs, the Direct and Counter-Cyclical Program and the Noninsured Corp Disaster Assistance Program. The regulations at 7 CFR part 1400 provide for “actively engaged in farming” and “person” determinations to be made for individuals or entities, with respect to a particular farming operation, in order to determine their payment eligibility and payment limitations under the multiple programs. Forms CCC-502A, CCC-502B, CCC-502C, CCC-502D, CCC-502EZ, CCC-501A and CCC-501B are used by the respondents. The proposed revision is the consolidation of these mentioned forms into a single form to be used by all respondents. The common elements to collect from individuals or entities are names, farming interest, members, addresses, tax identification numbers, location of the lands, percentage of leased or owned equipments, citizenship types, estimated farming labor hours, estimated percentage of farming management, and designated names in receiving payments. The respondents are allowed to submit this information either through the physical use of the form or electronically to the appropriate FSA County office-based personnel who receive and make the payment eligibility determinations.

Information collection under Titles I and II of the Farm Security and Rural Investment Act of 2002 are exempted from Paperwork Reduction Act of 1995, including the Conservation Reserve Program, the Price Support Programs, the Direct and Counter-Cyclical Program. Only the Noninsured Crop Disaster Assistance Program is not exempt from the requirement of Paperwork Reduction Act, so it is necessary to describe the information collection in this Notice. If the information is not collected from the respondents, the FSA would not able to administer the payment programs properly to comply with the regulations.

Estimate of Burden: Average 56 minutes per response.

Type of Respondents: Producers who, as owner, landlord, tenant, or sharecropper, are involved in the farming operations and who would seek benefits under the Noninsured Corp Disaster Assistance Program.

Estimated Annual Number of Respondents: 125,000.

Estimated Number of Responses per Respondent: One per respondent.

Estimated Total Burden Hours: 116,667.

Comment is invited on: (a) Whether this collection of information is necessary for the proper performance of the functions of the agency, including whether the information will have practical utility; (b) the accuracy of the agency's estimate of burden including the validity of the methodology and assumptions used; (c) ways to enhance the quality, utility and clarity of the information to be collected; (d) ways to minimize the burden of collection on those who are to respond, including the use of appropriate automated, electronic, mechanical, or other technological collection techniques or other forms of information technology.

Comments should be sent to the Desk Officer for Agriculture, Office of Information and Regulatory Affairs, Office of Management and Budget, Washington, DC 20503 and to James Baxa, Program Manager, Production, Emergencies and Compliance Division, Farm Service Agency, United States Department of Agriculture, STOP 0517, Room 4752-S, 1400 Independence Avenue, SW., Washington, DC 20250. Copies of the information collection may be obtained from James Baxa the above address.

All comments received in responses to this notice, including names and addresses when provided, will be a matter of public record. Comments will be summarized and included in the submission for Office of Management and Budget approval.

Signed at Washington, DC, on October 24, 2005.
Michael W. Yost,
Acting Administrator, Farm Service Agency and Acting Executive Vice President, Commodity Credit Corporation.

[FR Doc. 05-21593 Filed 10-28-05; 8:45 am]

BILLING CODE 3410-05-P